DEPARTMENT OF HEALTH AND HUMAN SERVICES

National Institutes of Health

National Institute of Diabetes and Digestive and Kidney Diseases; Notice of Meeting

Pursuant to section 10(a) of the Federal Advisory Committee Act, as amended (5 U.S.C. Appendix 2), notice is hereby given of a meeting of the National Diabetes and Digestive and Kidney Diseases Advisory Council.

The meeting will be open to the public, with attendance limited to space available. Individuals who plan to attend and need special assistance, such as sign language interpretation or other reasonable accommodations, should notify the Contact Person listed below in advance of the meeting.

Name of Committee: National Diabetes and Digestive and Kidney Diseases Advisory Council.

Date: December 10, 2001.

Time: 3:30 pm to 5 pm.

Agenda: To present the Director's Report.

Place: 2 Democracy Plaza, 6707 Democracy Boulevard, Conference Room 701, Bethesda, MD 20892. (Telephone Conference Call)

Contact Person: Robert D. Hammond, Director for Extramural Activities, National Institute of Diabetes and Digestive and Kidney Diseases, National Institutes of Health, 6707 Democracy Blvd, Room 631, MSC 5452, Bethesda, MD 20892-5452, 301-594-8834, hammondr@extra.niddk.nih.gov.

This notice is being published less than 15 days prior to the meeting due to the recent attacks on America, portions of the Advisory Council meeting had to be rescheduled.

Information is also available on the Institute's/Center's home page: www.niddk.nih.gov/fund/divisions/DEA/Council/coundesc.htm., where an agenda and any additional information for the meeting will be posted when available.

(Catalogue of Federal Domestic Assistance Program Nos. 93.847, Diabetes, endocrinology and Metabolic Research; 93.848, Digestive Diseases and Nutrition Research; 93.849, Kidney Diseases, Urology and Hematology Research, National Institutes of Health, HHS)
Dated: November 30, 2001.
LaVerne Y. Stringfield,
Director, Office of Federal Advisory Committee Policy.

[FR Doc. 01-30521 Filed 12-10-01; 8:45 am]

BILLING CODE 4140-01-M